DEPARTMENT OF LABOR

Occupational Safety and Health Administration

[Docket No. OSHA-2025-0005]

Japan Electrical Safety & Environment Technology Laboratories: Grant of Recognition

AGENCY: Occupational Safety and Health Administration (OSHA), Labor.

ACTION: Notice.

SUMMARY: In this notice, OSHA announces the final decision to grant recognition to Japan Electrical Safety & Environment Technology Laboratories (JET), for recognition as a Nationally Recognized Testing Laboratory (NRTL).

DATES: Recognition as a NRTL becomes effective on July 24, 2025.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-1911 or email: robinson.kevin@dol.gov.

SUPPLEMENTARY INFORMATION:

I. Background

Many of OSHA's workplace standards require that a NRTL test and certify certain types of equipment as safe for use in the workplace. NRTLs are independent laboratories that meet OSHA's requirements for performing safety testing and certification of products used in the workplace. To obtain and retain OSHA recognition, the NRTLs must meet the requirements in the NRTL Program regulations at 29 CFR 1910.7. More specifically, to be recognized by OSHA, an organization must: (1) have the appropriate capability to test, evaluate, and approve products to assure their safe use in the workplace; (2) be completely independent of employers subject to the tested equipment requirements, and manufacturers and vendors of products for which OSHA requires certification; (3) have internal programs that ensure proper control of the testing and certification process; and (4) have effective reporting and complaint handling procedures. Recognition is an acknowledgement by OSHA that the NRTL has the capabilities to perform independent safety testing and certification of the specific products covered within the NRTL's scope of recognition and is not a delegation or grant of government authority. Recognition of a NRTL by OSHA also allows employers to use products certified by that NRTL to meet those OSHA standards that require product testing and certification.

The agency processes applications for initial recognition following requirements in Appendix A of 29 CFR 1910.7. This appendix requires OSHA to publish two notices in the Federal Register in processing an application. In the first notice, OSHA announces the application, provides its preliminary findings, and solicits comments on its preliminary findings. In the second notice, the agency provides its final decision on the application and sets forth the NRTL's scope of recognition.

II. Notice of Final Decision

OSHA hereby gives notice of the agency's decision to grant recognition to Japan Electrical Safety & Environment Technology Laboratories (JET) as a NRTL. According to public information (see https://www.jet.or.jp/en/company/history.html) JET states that it is an internationally accredited testing laboratory. In its application, JET lists the current address of its headquarters as: Japan Electrical Safety & Environment Technology Laboratories, 5-14-12, Yoyogi, Shibuya-ku, Tokyo Japan. OSHA has determined that JET has the capability to perform as a NRTL as outlined in 29 CFR 1910.7.

Each NRTL's scope of recognition has two elements: (1) the type(s) of products the NRTL may test, with each type specified by its applicable test standard; and (2) the recognized site(s) that have the technical capability to perform the product-testing and product-certification activities for the applicable test standards within the NRTL's scope of recognition. JET applied on August 7, 2018, for three recognized sites and one recognized test standard (OSHA-2025-0005-0002). This application was amended on March 3, 2025, to remove one of the three sites requested in the original application (OSHA-2025-0005-0003). OSHA published the preliminary notice announcing JET's application for recognition in the Federal Register on April 25, 2025 (90 FR 17462). The agency requested comments by May 27, 2025, but it received no comments in response to this notice. OSHA is now proceeding with this final notice to grant recognition to JET as a NRTL.

To obtain or review copies of all public documents pertaining to JET's application, go to www.regulations.gov or contact the Docket Office at (202) 693-2350 (TTY (877) 889-5627). Docket No. OSHA-2025-0005 contains all materials in the record concerning JET's recognition.

III. Final Decision and Order

OSHA staff performed a detailed analysis of JET's application packet and reviewed other pertinent information. OSHA staff also performed a comprehensive on-site assessment of JET's testing facilities, at JET Tokyo and Fukushima, Japan on May 13-15, 2024. Based on the review of this evidence, OSHA finds that JET meets the requirements of 29 CFR 1910.7 for recognition as a NRTL, subject to the limitations and conditions listed below. OSHA, therefore, is proceeding with this final notice to grant recognition to JET as a NRTL. The following sections set forth the scope of recognition included in JET's grant of recognition.

A. Standard Approved for Recognition

OSHA limits JET's scope of recognition to testing and certification of products for demonstration of conformance to the test standard listed in Table 1 below.

Table 1—Appropriate Test Standard for Inclusion in JET's NRTL Scope of Recognition
Test standard | Test standard title
UL 1741 | Inverters, Converters, and Controllers for Use in Independent Power Systems
* OSHA notes that the title to this standard in the table is taken from OSHA's List of Appropriate Test Standards (see https://www.osha.gov/nationally-recognized-testing-laboratory-program/list-standards). This title is not the same as the title currently used by the Standards Developing Organization that issued the test standard. OSHA intends to update the List of Appropriate Test Standards to reflect the currently used title in the near future.

B. Sites Approved for Recognition

OSHA limits JET's scope of recognition to include two sites:

(1) Japan Electrical Safety & Technology Laboratories, 5-14-12, Yoyogi, Shibuya-ku, Tokyo, Japan; and

(2) Japan Electrical Safety & Technology Laboratories, 2-2-9, Machiikedai, Koriyama-city, Fukushima-prefecture, Japan.

OSHA's recognition of these sites limits JET to performing product testing and certifications only for the test standard in JET's scope of recognition.

C. Conditions

In addition to those conditions already required by 29 CFR 1910.7, JET also must abide by the following conditions of the recognition:

1. JET must inform OSHA as soon as possible, in writing, of any change of ownership, facilities, or key personnel, and of any major change in the operations as a NRTL, and provide details of the change(s);

2. JET must meet all the terms of the recognition and comply with all OSHA policies pertaining to this recognition; and

3. JET must continue to meet the requirements for recognition, including all previously published conditions on JET's scope of recognition, in all areas for which it has recognition.

Pursuant to the authority in 29 CFR 1910.7, OSHA hereby grants recognition to JET as a NRTL, subject to these limitations and conditions specified above.

IV. Authority and Signature

Amanda Laihow, Acting Assistant Secretary of Labor for Occupational Safety and Health, authorized the preparation of this notice. Accordingly, the agency is issuing this notice pursuant to 29 U.S.C. 657(g)(2), Secretary of Labor's Order No. 7-2025 (90 FR 27878, June 30, 2025) and 29 CFR 1910.7.

Signed at Washington, DC, on July 8, 2025.
Amanda Laihow,
Acting Assistant Secretary of Labor for Occupational Safety and Health.

[FR Doc. 2025-13887 Filed 7-23-25; 8:45 am]

BILLING CODE 4510-26-P